FEDERAL COMMUNICATIONS COMMISSION

47 CFR Part 73

[DA 01-1670, MM Docket Nos. 01-155, 01-156, 01-157, 01-158; RM-10176, RM-10177, RM-10178, RM-10179]

Radio Broadcasting Services; Goliad, Paducah, and Woodson, TX; Paulden, AZ

AGENCY: Federal Communications Commission.

ACTION: Proposed rule.

SUMMARY: The Commission requests comment on four petitions for rulemaking. Three filed by Charles Crawford propose the allotments of Channel 282A at Goliad, Texas, Channel 296C3 at Paducah, Texas, and Channel 298A at Woodson, Texas. Channel 282A can be allotted at Goliad in compliance with the Commission's minimum distance separation requirements, with respect to domestic allotments, 4.6 kilometers (2.9 miles) north of the community at coordinates 28-42-35 NL and 97-23-02 WL. Channel 296C3 can be allotted at Paducah in compliance with the Commission's minimum distance separation requirements, with respect to domestic allotments, 0.4 kilometers (0.3 miles) northwest of the community, at coordinates 34-00-59 NL and 100-18-35 WL. Channel 298A can be allotted at Woodson in compliance with the Commission's minimum distance separation requirements, with respect to domestic allotments, at a site 1.9 kilometers (1.2 miles) southwest of the community at coordinates 33-00-32 NL and 99-04-23 WL. The fourth, filed by Paulden Broadcasting, proposes the allotment of Channel 263C3 at Paulden, Arizona. Channel 263C3 can be allotted at Paulden in compliance with the Commission's minimum distance separation requirements, with respect to domestic allotments without a site restriction at coordinates 34-53-00 NL and 112-28-00 WL. Since the Goliad and Paulden proposals are within 320 kilometers (199 miles) of the U.S.-Mexico border, concurrence of the Mexican government to those proposed allotments will be required.

ADDRESSES: Federal Communications Commission, 445 Twelfth Street, SW., Washington, DC 20554. In addition to filing comments with the FCC, interested parties should serve the petitioner, as follows:

DATES: Comments must be filed on or before September 4, 2001, and reply comments must be filed on or before September 18, 2001.

FOR FURTHER INFORMATION CONTACT: Victoria M. McCauley, Mass Media Bureau, (202) 418-2180.

SUPPLEMENTARY INFORMATION: This is a synopsis of the Commission's Notice of Proposed Rule Making, MM Docket Nos. 01-155, 01-156, 01-157, and 01-158, adopted July 11, 2001, and released July 13, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas is amended to add Channel 282A at Goliad, Paducah, Channel 296C3, and Woodson, Channel 298A.

3. Section 73.202(b), the Table of FM Allotments under Arizona, is amended to add Paulden, Channel 263C3.

Federal Communications Commission.
John A. Karousos,
Chief, Allocations Branch, Policy and Rules Division, Mass Media Bureau.

[FR Doc. 01-18348 Filed 7-26-01; 8:45 am]

BILLING CODE 6712-01-P